DEPARTMENT OF HOMELAND SECURITY

Transportation Security Administration

Intercity Bus Security Grant Program: Application Notice Describing the Program and Establishing the Closing Date for Receipt of Applications Under the Intercity Bus Security Grant Program

AGENCY: Transportation Security Administration (TSA), DHS.

ACTION: Notice inviting applications under the Intercity Bus Security Grant Program.

SUMMARY: The purpose of the Intercity Bus Security Program is to improve security for intercity bus operators and passengers.

The Intercity Bus Security Grant Program improves security for operators and passengers by providing bus security enhancements and training to bus companies and others. Competitive grant funding is used to address a wide variety of security needs including driver protection, tracking and communications with over-the-road buses, passenger and baggage screening, security assessments and/or development of security plans, and training for transportation personnel to recognize and respond to criminal attacks and terrorist threats. The grants will also fund physical security enhancements such as fencing, lighting, and surveillance equipment at locations where buses are parked and maintained. Funds in the amount of $9,900,000 appropriated from Public Law 108-90, “Department of Homeland Security Appropriations Act, 2004,” are being awarded under the Intercity Bus Security Grant Program.

DATES: Applications must be received by Wednesday, July 7, 2004, 4 p.m. eastern daylight saving time.

ADDRESSES: Information about this funding opportunity and the application material are available through the TSA Internet site at http://www.tsa.gov under Industry Partners (select Maritime and Land Security Grants, then Intercity Bus Security Grants) and at http://www.fedgrants.gov. A paper copy of the application forms and instructions may be obtained by calling Elizabeth Dorfman at 571-227-2190 or by sending a written request to Elizabeth Dorfman. See contact information below for address.

FOR FURTHER INFORMATION CONTACT: Elizabeth Dorfman, Office of Maritime and Land Security, TSA-8, Transportation Security Administration, 601 South 12th Street, Arlington, VA 22202-4220; telephone: (571) 227-2190, e-mail: Elizabeth.dorfman@dhs.gov.

SUPPLEMENTARY INFORMATION: Total anticipated funding available for the Intercity Bus Security Grant Program is $9,900,000. Awards under this program are subject to the availability of funds.

Issued in Arlington, Virginia, on May 17, 2004.
Marianna L. Merritt,
Chief of Staff, Office of Maritime and Land Security, Transportation Security Administration.

[FR Doc. 04-11428 Filed 5-17-04; 1:51 pm]

BILLING CODE 4910-62-P